DEPARTMENT OF COMMERCE

National Oceanic and Atmospheric Administration

National Integrated Drought Information System (NIDIS) Executive Council Meeting

AGENCY: Climate Program Office (CPO), Office of Oceanic and Atmospheric Research (OAR), National Oceanic and Atmospheric Administration (NOAA), Department of Commerce (DOC).

ACTION: Notice of open meeting.

SUMMARY: The National Integrated Drought Information System (NIDIS) Program Office will hold an organizational meeting on October 27, 2016, to reconstitute the Executive Council.

DATES: The meeting will be held Thursday, October 27, 2016 from 9:00 a.m. EST to 3:00 p.m. EST. These times and the agenda topics described below are subject to change.

ADDRESSES: The meeting will be held at the Hall of States, Room 383/385, 444 North Capitol St. NW., Washington, DC 20001.

FOR FURTHER INFORMATION CONTACT: Veva Deheza, NIDIS Executive Director, David Skaggs Research Center, Room GD102, 325 Broadway, Boulder CO 80305. Email: Veva.Deheza@noaa.gov; or visit the NIDIS Web site at www.drought.gov.

SUPPLEMENTARY INFORMATION: The National Integrated Drought Information System (NIDIS) was established by Public Law 109-430 on December 20, 2006, and reauthorized by Public Law 113-86 on March 6, 2014, with a mandate to provide an effective drought early warning system for the United States; coordinate, and integrate as practicable, Federal research in support of a drought early warning system; and build upon existing forecasting and assessment programs and partnerships. See 15 U.S.C. 313d. The Public Law also calls for consultation with “relevant Federal, regional, State, tribal, and local government agencies, research institutions, and the private sector” in the development of NIDIS. 15 U.S.C. 313d(c). As such, the NIDIS Program Office is working to reconstitute a NIDIS Executive Council.

Status: This meeting will be open to public participation. Individuals interested in attending should register at https://joss.ucar.edu/meetings/2016/nidis-executive-council. Please refer to this Web page for the most up-to-date meeting times and agenda. Seating at the meeting will be available on a first-come, first-served basis.

Special Accommodations: This meeting is physically accessible to people with disabilities. Requests for special accommodations may be directed no later than 12:00 p.m. on October 24, 2016, to Elizabeth Ossowski, Program Coordinator, David Skaggs Research Center, Room GD102, 325 Broadway, Boulder CO 80305; Email: Elizabeth.Ossowski@noaa.gov.

Matters To Be Considered: The meeting will include the following topics: (1) an orientation around NIDIS, including its history and evolution, (2) connections between the NIDIS program and the aims of individual organizations/agencies represented on the Council, (3) updates to the implementation of the 2006 and 2014 NIDIS Public Laws, including the role of consultation in the development of NIDIS, (4) opportunities to strengthen the integration of information and activities that address drought and water scarcity, and (5) defining how the Executive Council will function.

Dated: October 18, 2016.
Jason Donaldson,
Chief Financial Officer, Office of Oceanic and Atmospheric Research.

[FR Doc. 2016-25676 Filed 10-24-16; 8:45 am]

BILLING CODE 3510-KB-P